NUCLEAR REGULATORY COMMISSION
[Docket No. 70-7003]
Notice of Availability of Environmental Assessment and Finding of No Significant Impact for License Application for USEC, Inc., Bethesda, MD; Correction

AGENCY:
Nuclear Regulatory Commission.

ACTION:

Notice of availability of environmental assessment and finding of no significant impact for license application; correction.

SUMMARY:

The U.S. Nuclear Regulatory Commission published a Finding of No Significant Impact (FONSI) in the Federal Register on January 27, 2004 (69 FR 3956), concerning the United States Enrichment Corporation Inc.'s (USEC Inc.'s) license application for its American Centrifuge Lead Cascade Facility (Lead Cascade) in Piketon, Ohio. The FONSI contained an incorrect number.

FOR FURTHER INFORMATION CONTACT:
Yawar Faraz, NMSS/FCSS (301) 415-8113.
Correction
In the Federal Register of January 27, 2004, in volume 69, number 17, on page 3956, correct the 0.0001% value to 1%. The corrected sentence, which is the third sentence of the third full paragraph in the third column, should read as follows:
“For example, NRC staff finds that public exposure to radiation from the proposed action will be less than 1% of the limits in 10 CFR part 20.”

Dated in Rockville, Maryland this 27th day of January, 2004.

For the Nuclear Regulatory Commission.
Michael T. Lesar,
Chief, Rules Review and Directives Branch, Division of Administrative Services, Office of Administration.

[FR Doc. 04-2018 Filed 1-29-04; 8:45 am]
BILLING CODE 7590-01-P